DEPARTMENT OF COMMERCE

International Trade Administration

[A-570-905]

Certain Polyester Staple Fiber From the People's Republic of China: Final Results and Partial Rescission of Second Antidumping Duty Administrative Review

AGENCY: Import Administration, International Trade Administration, Department of Commerce.

SUMMARY: On July 14, 2010, the Department of Commerce (“Department”) published in the Federal Register the preliminary results of the second administrative review of the antidumping duty order on certain polyester staple fiber (“PSF”) from the People's Republic of China (“PRC”). See Certain Polyester Staple Fiber From the People's Republic of China: Notice of Preliminary Results and Preliminary Rescission, in Part, of the Antidumping Duty Administrative Review, 75 FR 40777 (July 14, 2010) (“Preliminary Results”). We gave interested parties an opportunity to comment on the Preliminary Results. Based upon our analysis of the comments and information received, we made changes to the margin calculations for the final results. We continue to find that sales have not been made below normal value (“NV”) with respect to the mandatory respondents who participated fully and are entitled to a separate rate in this administrative review.

DATES: Effective Date: January 18, 2011.

FOR FURTHER INFORMATION CONTACT: Jerry Huang or Steven Hampton, AD/CVD Operations, Office 9, Import Administration, International Trade Administration, U.S. Department of Commerce, 14th Street and Constitution Avenue, NW., Washington, DC 20230; telephone: (202) 482-4047 and (202) 482-0116 respectively.

SUPPLEMENTARY INFORMATION:

Background

On July 14, 2010, the Department published the Preliminary Results of the second administrative review of the antidumping duty order on certain PSF from the PRC. On July 26, 2010, Ningbo Dafa Chemical Fiber Co., Ltd. (“Ningbo Dafa”) and Cixi Santai Chemical Fiber Co., Ltd. (“Cixi Santai”), the mandatory respondents in this review, submitted additional information regarding domestic brokerage and handling. On August 3, 2010, Ningbo Dafa and Cixi Santai submitted additional surrogate value (“SV”) information.

As part of the Preliminary Results, we instructed interested parties to submit case briefs on August 13, 2010, 30 days after the publication of the Preliminary Results. On August 3, 2010, we placed additional export data and wage rate data on the record of this administrative review and invited interested parties to comment in their case briefs with the deadline extended to September 1, 2010. On September 1, 2010, Cixi Sansheng Chemical Fiber Co., Ltd., Hangzhou Best Chemical Fibre Co., Ltd. (“Hangzhou Best”), Hangzhou Huachuang Co., Ltd., Hangzhou Sanxin Paper Co., Ltd., Nantong Luolai Chemical Fiber Co., Ltd., NanYang Textiles Co., Ltd., Zhejiang Waysun Chemical Fiber Co., Ltd., Cixi Waysun Chemical Fiber Co., Ltd., and Zhaoqing Tifo New Fiber Co., Ltd. (collectively, the “Certain Separate Rate Companies”) filed a case brief regarding what antidumping duty rate should be assigned to them. Also on September 1, 2010, Ningbo Dafa, Cixi Santai, the Certain Separate Rate Companies, Consolidated Textiles, Inc., Fibertex Corporation, and Stein Fibers Limited filed separate case briefs addressing the other case issues.

On October 26, 2010, the Department issued a memorandum regarding the Department's proposed industry-specific wage rate methodology for the final results and invited interested parties to comment. On November 5, 2010, Ningbo Dafa and Cixi Santai filed comments on the Department's wage rate methodology. On November 10, 2010, DAK Americas LLC (“Petitioner”) filed rebuttal comments.

The Department did not hold a public hearing pursuant to 19 CFR 351.310(d), as any hearing request made by interested parties was withdrawn.

Analysis of Comments Received

All issues raised in the case and rebuttal briefs by parties to these reviews are addressed in the “Certain Polyester Staple Fiber from the People's Republic of China: Issues and Decision Memorandum for the Final Results of 2008/2009 Administrative Review,” which is dated concurrently with and adopted by this notice (“Decision Memo”). A list of the issues which parties raised and to which we respond in the Decision Memo is attached to this notice as an Appendix. The Decision Memo is a public document and is on file in the Central Records Unit, main Commerce building, Room 7046, and is accessible on the Department's Web site at http://www.trade.gov/ia. The paper copy and electronic version of the memorandum are identical in content.

Period of Review

The period of review (“POR”) is June 1, 2008, through May 31, 2009.

Scope of the Order

The merchandise covered by the order is synthetic staple fibers, not carded, combed or otherwise processed for spinning, of polyesters measuring 3.3 decitex (3 denier, inclusive) or more in diameter. This merchandise is cut to lengths varying from one inch (25 mm) to five inches (127 mm). The subject merchandise may be coated, usually with a silicon or other finish, or not coated. PSF is generally used as stuffing in sleeping bags, mattresses, ski jackets, comforters, cushions, pillows, and furniture.

The following products are excluded from the scope: (1) PSF of less than 3.3 decitex (less than 3 denier) currently classifiable in the Harmonized Tariff Schedule of the United States (“HTSUS”) at subheading 5503.20.0025 and known to the industry as PSF for spinning and generally used in woven and knit applications to produce textile and apparel products; (2) PSF of 10 to 18 denier that are cut to lengths of 6 to 8 inches and that are generally used in the manufacture of carpeting; and (3) low-melt PSF defined as a bi-component fiber with an outer, non-polyester sheath that melts at a significantly lower temperature than its inner polyester core (classified at HTSUS 5503.20.0015).

Certain PSF is classifiable under the HTSUS subheadings 5503.20.0045 and 5503.20.0065. Although the HTSUS subheadings are provided for convenience and customs purposes, the written description of the merchandise under the order is dispositive.

Changes Since the Preliminary Results

Based on a review of the record as well as comments received from parties regarding our Preliminary Results, we have made revisions to certain SVs and the margin calculations for Ningbo Dafa and Cixi Santai in the final results. Specifically, we have updated the calculation for labor and brokerage and handling SVs. See Decision Memo and the company specific analysis memoranda.

Wage Rate Methodology

Pursuant to a recent decision by the United States Court of Appeals for the Federal Circuit, we have calculated a revised hourly wage rate to use in valuing Ningbo Dafa and Cixi Santai's reported labor.¹ The revised wage rate is calculated by averaging earnings and/or wages in countries that are economically comparable to the PRC and that are significant producers of comparable merchandise, pursuant to section 773 of the Act. See Decision Memo at Comment 1.

¹ Dorbest Ltd. v. United States, 604 F.3d 1363, 1372 (Fed. Cir. 2010).

Separate Rates

In our Preliminary Results, we determined that the following companies met the criteria for separate rate status in addition to the mandatory respondents Ningbo Dafa and Cixi Santai: Far Eastern Industries (Shanghai), Ltd. (aka Far Eastern Polychem Industries); Cixi Sansheng Chemical Fiber Co., Ltd.; Cixi Waysun Chemical Fiber Co. Ltd.; Hangzhou Hanbang Chemical Fibre Co., Ltd.; Hangzhou Huachuang Co., Ltd.; Hangzhou Sanxin Paper Co., Ltd.; Hangzhou Taifu Textile Fiber Co., Ltd.; Jiaxing Fuda Chemical Fibre Factory; Nantong Loulai Chemical Fiber Co., Ltd.; Nanyang Textile Co., Ltd.; Zhaoqing Tifo New Fiber Co., Ltd.; Zhejiang Anshun Pettechs Fibre Co., Ltd.; and Zhejiang Waysun Chemical Fiber Co., Ltd. We have not received any information since the issuance of the Preliminary Results that provides a basis for the reconsideration of these preliminary determinations. Therefore, the Department continues to find the above-named companies meet the criteria for a separate rate.

PRC-Wide Entity

In the Preliminary Results, the Department determined that those companies which did not demonstrate eligibility for a separate rate are properly considered part of the PRC-wide entity. Since the Preliminary Results, none companies submitted comments regarding these findings. Therefore, we continue to treat such entities as part of the PRC-wide entity.

Final Partial Rescission

In the Preliminary Results, the Department preliminarily rescinded this review with respect to Hangzhou Best and Xiamen Xianglu Chemical Fiber Co. (“Xiamen Xianglu”) because the Department preliminarily determined that they had no shipments of subject merchandise to the United States during the POR. We have not received any information since the issuance of the Preliminary Results that provides a basis for reconsidering rescinding the review with respect to these two companies. Thus, in accordance with 19 CFR 351.213(d)(3), and consistent with our practice, we are rescinding this review with respect to Hangzhou Best and Xiamen Xianglu.

Final Results of Review

The dumping margins for the POR are as follows:

Certain Polyester Staple Fiber From the People's Republic of China
Manufacturer/Exporter | Weighted average margin (percent)
Ningbo Dafa Chemical Fiber Co., Ltd. | * 0.00
Cixi Santai Chemical Fiber Co., Ltd. | * 0.29
Far Eastern Industries (Shanghai) Ltd. (aka Far Eastern Polychem Industries) | 4.44
Cixi Sansheng Chemical Fiber Co., Ltd. | 4.44
Cixi Waysun Chemical Fiber Co. Ltd. | 4.44
Hangzhou Hanbang Chemical Fibre Co., Ltd. | 4.44
Hangzhou Huachuang Co., Ltd. | 4.44
Hangzhou Sanxin Paper Co., Ltd. | 4.44
Hangzhou Taifu Textile Fiber Co., Ltd. | 4.44
Jiaxing Fuda Chemical Fibre Factory | 4.44
Nantong Loulai Chemical Fiber Co., Ltd. | 4.44
Nanyang Textile Co., Ltd. | 4.44
Zhaoqing Tifo New Fiber Co., Ltd. | 4.44
Zhejiang Anshun Pettechs Fibre Co., Ltd. | 4.44
Zhejiang Waysun Chemical Fiber Co., Ltd. | 4.44
PRC-Wide Rate | 44.30
* (de minimis).

Assessment

Upon issuance of the final results, the Department will determine, and U.S. Customs and Border Protection (“CBP”) shall assess, antidumping duties on all appropriate entries. The Department intends to issue assessment instructions to CBP 15 days after the date of publication of the final results of review. Pursuant to 19 CFR 351.212(b)(1), we will calculate importer-specific (or customer) ad valorem duty assessment rates based on the ratio of the total amount of the dumping margins calculated for the examined sales to the total entered value of those same sales. We will instruct CBP to assess antidumping duties on all appropriate entries covered by this review if any importer-specific assessment rate calculated in the final results of this review is above de minimis.

Cash Deposit Requirements

The following cash deposit requirements will be effective upon publication of the final results of this administrative review for all shipments of the subject merchandise entered, or withdrawn from warehouse, for consumption on or after the publication date, as provided for by section 751(a)(2)(C) of the Act: (1) The cash deposit rate for each of the reviewed companies that received a separate rate in this review will be the rate listed in the final results of review (except that if the rate for a particular company is de minimis, i.e., less than 0.5 percent, no cash deposit will be required for that company); (2) for previously investigated companies not listed above, the cash deposit rate will continue to be the company-specific rate published for the most recent period of review; (3) if the exporter is not a firm covered in this review, a prior review, or the original less than fair value investigation, but the manufacturer is, the cash deposit rate will be the rate established for the most recent period for the manufacturer of the merchandise; and (4) the cash deposit rate for all other manufacturers or exporters will be the PRC-wide rate of 44.30 percent. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: January 10, 2011.
Christian Marsh,
Acting Deputy Assistant Secretary for Import Administration.

Appendix

General Comments

Comment 1: Surrogate Value for Labor

Comment 2: Surrogate Value for Brokerage & Handling

Comment 3: Brokerage & Handling in Market Economy Purchase Price

Comment 4: Zeroing

Certain Separate Rate Companies Comments

Comment 5: Separate Rate Assignment

[FR Doc. 2011-923 Filed 1-14-11; 8:45 am]

BILLING CODE 3510-DS-P